DEPARTMENT OF JUSTICE

National Institute of Corrections

Advisory Board Meeting

Time and Date:

8 a.m. to 4:30 p.m. on Monday, November 8, 2010;

8 a.m. to 4:30 p.m. on Tuesday, November 9, 2010.

Place: National Institute of Corrections, 500 First Street, NW., Washington, DC 20534, 1(800)995-6423.

Status: Open.

Matters To Be Considered: Welcome New Advisory Board Members; NIC Orientation; Briefing on NIC Reports; Agency Reports; Quarterly Report by Office of Justice Programs.

Contact Person for More Information: Thomas Beauclair, Deputy Director, 202-307-3106, ext. 44254.

Morris L. Thigpen,
Director.

[FR Doc. 2010-24854 Filed 10-5-10; 8:45 am]

BILLING CODE 4410-36-M